DEPARTMENT OF THE INTERIOR

Bureau of Land Management

[ES-960-1910-BJ-4377; ES-51228, Group 156, Wisconsin]

Notice of Filing of Plat of Survey; Wisconsin

The plat of the dependent resurvey of a portion of the south and east boundaries, a portion of the subdivisional lines, and the subdivision of sections 24, 25, and 36, Township 39 North, Range 9 West, 4th Principal Meridian, Wisconsin, will be officially filed in Eastern States, Springfield, Virginia at 7:30 a.m., on November 28, 2001.

The survey was requested by the Bureau of Indian Affairs.

All inquiries or protests concerning the technical aspects of the survey must be sent to the Chief Cadastral Surveyor, Eastern States, Bureau of Land Management, 7450 Boston Boulevard, Springfield, Virginia 22153, prior to 7:30 a.m., November 28, 2001.

Copies of the plat will be made available upon request and prepayment of the appropriate fee.

Dated: September 27, 2001.
Stephen D. Douglas,
Chief Cadastral Surveyor.

[FR Doc. 01-27916 Filed 11-6-01; 8:45 am]

BILLING CODE 4310-GJ-P